EXPORT-IMPORT BANK

Application for Final Commitment for a Long-Term Loan or Financial Guarantee in Excess of $100 Million: AP089537XX

AGENCY: Export-Import Bank of the United States.

ACTION: Notice.

SUMMARY: This Notice is to inform the public, in accordance with section 3(c)(10) of the Export-Import Bank Act of 1945, as amended, the Export-Import Bank of the United States (“EXIM”) has received an application for final commitment for a long-term loan or financial guarantee in excess of $100 million. Comments received within the comment period specified below will be presented to the EXIM Board of Directors prior to final action on this Transaction.

DATES: Comments must be received on or before September 20, 2024 to be assured of consideration before final consideration of the transaction by the Board of Directors of EXIM.

ADDRESSES: Comments may be submitted through Regulations.gov at WWW.REGULATIONS.GOV. To submit a comment, enter AP089537XX under the heading “Enter Keyword or ID” and select Search. Follow the instructions provided at the Submit a Comment screen. Please include your name, company name (if any) and AP089537XX on any attached document.

SUPPLEMENTARY INFORMATION:

Reference: AP089537XX.

Purpose and Use:

Brief description of the purpose of the transaction: To support the export of U.S.-manufactured commercial aircraft to South Korea.

Brief non-proprietary description of the anticipated use of the items being exported: To be used for passenger air transport between South Korea and Europe, America, and Asia.

To the extent that EXIM is reasonably aware, the item(s) being exported may be used to produce exports or provide services in competition with the exportation of goods or provision of services by a United States industry.

Parties:

Principal Supplier: The Boeing Company

Obligor: Korean Air Lines Co., Ltd.

Guarantor(s): N/A

Description of Items Being Exported: Boeing commercial jet aircraft.

Information on Decision: Information on the final decision for this transaction will be available in the “Board Agenda and Meeting Minutes” on https://www.exim.gov/news/meeting-minutes.

Confidential Information: Please note that this notice does not include confidential or proprietary business information; information which, if disclosed, would violate the Trade Secrets Act; or information which would jeopardize jobs in the United States by supplying information that competitors could use to compete with companies in the United States.

Deidre Hodge,
Assistant Corporate Secretary.

[FR Doc. 2024-18631 Filed 8-22-24; 11:15 am]

BILLING CODE 6690-01-P